ENVIRONMENTAL PROTECTION AGENCY

[FRL-9143-8]

Proposed Administrative Settlement Agreement Under Section 122 of the Comprehensive Environmental Response, Compensation, and Liability Act for the Chemical Leaman Tank Lines, Inc. Superfund Site Located in Logan Township, Gloucester County, NJ

AGENCY: Environmental Protection Agency (EPA).

ACTION: Notice of proposed administrative settlement and opportunity for public comment.

SUMMARY: The United States Environmental Protection Agency (“EPA”) is proposing to enter into an administrative settlement agreement (“Settlement Agreement”) with Quality Distribution, Inc. (the “Settling Party”) pursuant to Section 122 of the Comprehensive Environmental Response, Compensation, and Liability Act (“CERCLA”), 42 U.S.C. 9622. The Settlement Agreement provides for Settling Party payment of certain response costs incurred by EPA at the Chemical Leaman Tank Lines, Inc. Superfund Site (“Site”) located in Logan Township, Gloucester County, New Jersey.

In accordance with Section 122(i) of CERCLA, 42 U.S.C. 9622(i), this notice is being published to inform the public of the proposed Settlement Agreement and of the opportunity to comment. For thirty (30) days following the date of publication of this notice, EPA will receive written comments relating to the proposed Settlement Agreement. EPA will consider all comments received and may modify or withdraw its consent to the settlement if comments received disclose facts or considerations that indicate that the proposed settlement is inappropriate, improper or inadequate. EPA's response to any comments received will be available for public inspection at EPA Region 2, 290 Broadway, 17th floor, New York, New York 10007-1866.

DATES: Comments must be provided by June 1, 2010.

ADDRESSES: Comments should reference the Chemical Leaman Tank Lines, Inc. Superfund Site, EPA Index No. II-CERCLA-02-2010-2010 and should be sent to the U.S. Environmental Protection Agency, Office of Regional Counsel, New Jersey Superfund Branch, 290 Broadway—17th Floor, New York, NY 10007.

FOR FURTHER INFORMATION CONTACT: Juan M. Fajardo, Assistant Regional Counsel, New Jersey Superfund Branch, Office of Regional Counsel, U.S. Environmental Protection Agency, 17th Floor, 290 Broadway, New York, New York 10007-1866. Telephone: 212-637-3132.

SUPPLEMENTARY INFORMATION: A copy of the proposed administrative settlement, as well as background information relating to the settlement, may be obtained from Juan M. Fajardo, Assistant Regional Counsel, New Jersey Superfund Branch, Office of Regional Counsel, U.S. Environmental Protection Agency, 17th Floor, 290 Broadway, New York, New York 10007-1866. Telephone: 212-637-3132.

Dated: April 12, 2010.
Walter Mugdan,
Director, Emergency and Remedial Response Division.

[FR Doc. 2010-10143 Filed 4-29-10; 8:45 am]

BILLING CODE 6560-50-P